DEPARTMENT OF ENERGY

Federal Energy Regulatory Commission

[Docket No. CP00-36-00]

Guardian Pipeline, L.L.C.; Notice of Site Visit

March 16, 2000

On March 29 and 30, 2000 the Commission's Office of Energy Projects (OEP) staff will conduct an inspection of the pipeline route proposed by Guardian Pipeline, L.L.C. (Guardian) for the Guardian Pipeline Project. The proposed route, crossing portions of Wisconsin and Illinois, will be inspected by helicopter. The aerial inspection will begin at Milwaukee's General Mitchell International Airport on the morning of March 29. If weather conditions preclude an overflight, the inspection will be conducted by automobile from a location to be determined. The inspection will continue along the route southward from Ixonia, Wisconsin to Joliet, Illinois. Representatives of Guardian will accompany the OEP staff.

All interested parties may attend, although those planning to attend must provide their own transportation.

For further information, please contact Paul McKee of the Commission's Office of External Affairs at (202) 208-1088.

David P. Boergers,
Secretary.

[FR Doc. 00-7032 Filed 3-21-00; 8:45 am]

BILLING CODE 6717-01-M